DEPARTMENT OF LABOR

Employment and Training Administration

[TA-W-55,596]

Interdynamics, Inc., Brooklyn, NY; Notice of Termination of Investigation

Pursuant to Section 221 of the Trade Act of 1974, an investigation was initiated on September 13, 2004 in response to petition filed by a company official on behalf of workers at Interdynamics, Inc., Brooklyn, New York.

The petitioner has requested that the petition be withdrawn. Consequently, further investigation in this case would serve no purpose, and the investigation has been terminated.

Signed in Washington, DC, this 13th day of October, 2004.
Richard Church,
Certifying Officer, Division of Trade Adjustment Assistance.

[FR Doc. E4-2910 Filed 10-28-04; 8:45 am]

BILLING CODE 4510-30-P